FEDERAL COMMUNICATIONS COMMISSION

Notice of Public Information Collection(s) Being Reviewed by the Federal Communications Commission, Comments Requested

April 1, 2004.

SUMMARY: The Federal Communications Commission, as part of its continuing effort to reduce paperwork burden invites the general public and other Federal agencies to take this opportunity to comment on the following information collection(s), as required by the Paperwork Reduction Act (PRA) of 1995, Pub. L. 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility and clarity of the information collected; and (d) ways to minimize the burden of the collection of information on the respondents, including the use of automated collection techniques or other forms of information technology.

DATES: Written Paperwork Reduction (PRA) comments should be submitted on or before June 14, 2004. If you anticipate that you will be submitting comments, but find it difficult to do so within the period of time allowed by this notice, you should advise the contact listed below as soon as possible.

ADDRESSES: Direct all Paperwork Reduction Act (PRA) comments to Judith B. Herman, Federal Communications Commission, Room 1-C804, 445 12th Street, SW., Washington, DC 20554 or via the Internet to JudithB.Herman@fcc.gov.

FOR FURTHER INFORMATION CONTACT: For additional information or copies of the information collection(s), contact Judith B. Herman at 202-418-0214 or via the Internet at JudithB.Herman@fcc.gov.

SUPPLEMENTARY INFORMATION: OMB Control Number: 3060-1030.

Title: Service Rules for Advanced Wireless Services (AWS) in the 1.7 GHz and 2.1 GHz Bands.

Form Nos.: FCC Forms 601, 602, 603, 604 and 605.

Type of Review: Revision of a currently approved collection.

Respondents: Business or other for-profit, Federal government, and State, local or tribal government.

Number of Respondents: 1,010.

Estimated Time per Response: .50 hours-3 hours.

Frequency of Response: On occasion and other one-time reporting requirements, recordkeeping requirement, and third party disclosure requirement.

Total Annual Burden: 6,505 hours.

Total Annual Cost: $910,750.

Privacy Act Impact Assessment: Not applicable.

Needs and Uses: The Commission adopted a Report and Order for service rules for Advanced Wireless Services (AWS) in the 1710-1755 and 2110-2155 MHz bands, including provisions for application, licensing, operating and technical rules, and for competitive bidding. The Commission is making AWS licensees subject to three existing Part 27 requirements that contain paperwork implications. These are foreign ownership, substantial service, and interference coordination. The foreign ownership and interference requirements are only a one-time requirement unless the licensee's ownership changes or they change the service or equipment they are using. The substantial service requirement would have to be made at the end of a licensee's license term.

Federal Communications Commission.
Marlene H. Dortch,
Secretary.

[FR Doc. 04-8486 Filed 4-13-04; 8:45 am]

BILLING CODE 6712-01-P